ENVIRONMENTAL PROTECTION AGENCY

[EPA-HQ-OPP-2006-0156; FRL-8064-5]

Alkylbenzene Sulfonates Risk Assessment and Preliminary Risk Reduction Options; Notice of Availability

AGENCY: Environmental Protection Agency (EPA).

ACTION: Notice.

SUMMARY: This notice announces the availability of EPA's risk assessment, preliminary risk reduction options, and related documents for the pesticide alkylbenzene sulfonates which encompasses sodium dodecylbenzene sulfonate; dodecylbenzene sulfonic acid; and benzenesulfonic acid, C10-C16 alkyl derivatives, and opens a public comment period on these documents. The public also is encouraged to suggest risk management ideas or proposals to address the risks identified. EPA is developing a Reregistration Eligibility Decision (RED) for alkylbenzene sulfonates through a modified, 4-Phase public participation process that the Agency uses to involve the public in developing pesticide reregistration and tolerance reassessment decisions. This is Phase 3 of the 4-Phase Process. Through these programs, EPA is ensuring that all pesticides meet current health and safety standards.

DATES Comments must be received on or before June 19, 2006.

ADDRESSES: Submit your comments, identified by docket identification (ID) number EPA-HQ-OPP-2006-0156, by one of the following methods:

• Federal eRulemaking Portal: http://www.regulations.gov. Follow the on-line instructions for submitting comments.

• Mail: Office of Pesticide Programs (OPP) Regulatory Public Docket (7502C), Environmental Protection Agency, 1200 Pennsylvania Ave., NW., Washington, DC 20460-0001.

• Hand Delivery: OPP Regulatory Public Docket, Environmental Protection Agency, Rm. 119, Crystal Mall #2, 1801 S. Bell St., Arlington, VA. Deliveries are only accepted during the Docket's normal hours of operation (8:30 a.m. to 4 p.m., Monday through Friday, excluding legal holidays). Special arrangements should be made for deliveries of boxed information. The Docket telephone number is (703) 305-5805.

• Important Note: OPP will be moving to a new location the first week of May 2006. As a result, from Friday, April 28 to Friday, May 5, 2006, the OPP Regulatory Public Docket will NOT be accepting any deliveries at the Crystal Mall #2 address and this facility will be closed to the public. Beginning on May 8, 2006, the OPP Regulatory Public Docket will reopen at 8:30 a.m. and deliveries will be accepted in Rm. S-4400, One Potomac Yard (South Building), 2777 S. Crystal Drive, Arlington, VA 22202. The mail code for the mailing address will change to (7502P), but will otherwise remain the same. The OPP Regulatory Public Docket telephone number and hours of operation will remain the same after the move.

Instructions: Direct your comments to docket ID number EPA-HQ-OPP-2006-0156. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The Federal regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index. Although listed in the index, some information is not publicly available, e.g., CBI or other information whose disclosure is restricted by statute. Certain other material, such as copyrighted material, is not placed on the Internet and will be publicly available only in hard copy form. Publicly available docket materials are available in the electronic docket at http://www.regulations.gov, or, if only available in hard copy, at the OPP Regulatory Public Docket at the location identified under “Delivery” and “Important Note.” The hours of operation for this docket facility are from 8:30 a.m. to 4 p.m., Monday through Friday, excluding legal holidays. The docket telephone number is (703) 305-5805.

FOR FURTHER INFORMATION CONTACT: Heather Garvie, Antimicrobials Division, (7510C), Office of Pesticide Programs, Environmental Protection Agency, 1200 Pennsylvania Ave., NW., Washington, DC 20460-0001; telephone number: (703) 308-0034; fax number: (703) 308-8481; e-mail address: garvie.heather@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI). In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket number and other identifying information (subject heading, Federal Register date and page number).

ii. Follow directions. The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns, and suggest alternatives.

vii. Explain your views as clearly as possible, avoiding the use of profanity or personal threats.

viii. Make sure to submit your comments by the comment period deadline identified.

II. Background

A. What Action is the Agency Taking?

EPA is releasing for public comment its human health and environmental fate and effects risk assessment, preliminary risk reduction options, and related documents for alkylbenzene sulfonates (encompassing sodium dodecylbenzene sulfonate; dodecylbenzene sulfonic acid; and benzenesulfonic acid, C10-C16 alkyl derivatives), and encouraging the public to suggest risk management ideas or proposals. The alkylbenzene sulfonates are both active and inert ingredients in pesticide products. As active ingredients, they are currently found in end-use products as a disinfectant, food-contact sanitizer, bacteriocide/bacteriostat, microbiocide/microbiostat, fungicide/fungistat, and virucide. As inert ingredients, they are found in end-use products, many of which are used in residential settings, and outdoors in agricultural settings. EPA developed the risk assessment and preliminary risk reduction options for alkylbenzene sulfonates through a modified version of its public process for making pesticide reregistration eligibility and tolerance reassessment decisions. Through these programs, EPA is ensuring that pesticides meet current standards under the Federal Insecticide, Fungicide, and Rodenticide Act (FIFRA) and the Federal Food, Drug, and Cosmetic Act (FFDCA), as amended by the Food Quality Protection Act of 1996 (FQPA).

The alkylbenzene sulfonates are both active and inert ingredients in pesticide products. As active ingredients, they are currently in 23 registered end-use products as a disinfectant, food-contact sanitizer, bacteriocide/bacteriostat, microbiocide/microbiostat, fungicide/fungistat, and virucide. Alkylbenzene sulfonates are in cleaners and sanitizers that are designated for use in agricultural, food handling and commercial/institutional/industrial settings. Examples of registered uses for alkylbenzene sulfonates include, but are not limited to: Application to indoor hard surfaces e.g., urinals, shower stalls, toilet bowls, etc., food dispensing equipment (e.g., pre-mix and post-mix vending machines), food contact surfaces (glasses, dishes, silverware, countertops, etc.), agricultural tools, and fruits and vegetables (post-harvest). As active ingredients, there are no residential or outdoor uses currently registered. As inert ingredients, there are approximately 350 registered end-use products containing these chemicals. Many of these products are used in residential settings, and outdoors in agricultural settings. The Agency's risk assessment identified dietary, residential and occupational risks of concern for some exposure scenarios. Because limited information is available for some exposure scenarios conservative assumptions were sometimes used in the risk assessment. The Agency is interested in receiving any information that could assist in refining the risk assessment.

EPA is providing an opportunity, through this notice, for interested parties to provide comments and input on the Agency's risk assessment for alkylbenzene sulfonates. Such comments and input could address, for example, the availability of additional data to further refine the risk assessments, such as ecological data to fill data gaps for aquatic toxicity studies for freshwater fish and invertebrates, or could address the Agency's risk assessment methodologies and assumptions as applied to this specific pesticide. Through this notice, EPA is also releasing for public comment its preliminary risk reduction options for alkylbenzene sulfonates, and is providing an opportunity for interested parties to provide risk management proposals or otherwise comment on risk management.

EPA seeks to achieve environmental justice, the fair treatment and meaningful involvement of all people, regardless of race, color, national origin, or income, in the development, implementation, and enforcement of environmental laws, regulations, and policies. To help address potential environmental justice issues, the Agency seeks information on any groups or segments of the population who, as a result of their location, cultural practices, or other factors, may have atypical, unusually high exposure to alkylbenzene sulfonates, compared to the general population.

EPA is applying the principles of public participation to all pesticides undergoing reregistration and tolerance reassessment. The Agency's Pesticide Tolerance Reassessment and Reregistration; Public Participation Process, published in the Federal Register on May 14, 2004, (69 FR 26819) (FRL-7357-9) explains that in conducting these programs, the Agency is tailoring its public participation process to be commensurate with the level of risk, extent of use, complexity of the issues, and degree of public concern associated with each pesticide. For alkylbenzene sulfonates, a modified, 4-Phase process with one comment period and ample opportunity for public consultation seems appropriate in view of its refined risk assessment, few complex issues, and/or other factors. However, if as a result of comments received during this comment period EPA finds that additional issues warranting further discussion are raised, the Agency may lengthen the process and include a second comment period, as needed.

All comments should be submitted using the methods in ADDRESSES, and must be received by EPA on or before the closing date. Comments will become part of the Agency Docket for alkylbenzene sulfonates. Comments received after the close of the comment period will be marked “late.” EPA is not required to consider these late comments.

B. What is the Agency's Authority for Taking this Action?

Section 4(g)(2) of FIFRA as amended directs that, after submission of all data concerning a pesticide active ingredient, “the Administrator shall determine whether pesticides containing such active ingredient are eligible for reregistration” before calling in product specific data on individual end-use products and either reregistering products or taking other “appropriate regulatory action.”

Section 408(q) of the FFDCA, 21 U.S.C. 346a(q), requires EPA to review tolerances and exemptions for pesticide residues in effect as of August 2, 1996, to determine whether the tolerance or exemption meets the requirements of section 408(b)(2) or (c)(2) of FFDCA. This review is to be completed by August 3, 2006.

List of Subjects

Environmental protection, Alkylbenzene sulfonates Pesticides and pests.

Dated: April 4, 2006.
Frank Sanders,
Director, Antimicrobials Division, Office of Pesticide Programs.

[FR Doc. E6-5879 Filed 4-18-06; 8:45 am]

BILLING CODE 6560-50-S